DEPARTMENT OF STATE

[Public Notice 5104]

Announcement of meetings of the International Telecommunication Advisory Committee

SUMMARY: The International Telecommunication Advisory Committee announces an email meeting of ITAC Study Group D to consider a normal contribution to International Telecommunication Union, Telecommunication Standardization Sector (ITU-T) Study Group 9, Integrated broadband cable networks and television and sound transmission. Members of the public may participate, and may join in the discussions.

The International Telecommunication Advisory Committee (ITAC) will meet by email to prepare for ITU-T Study Group 9, Integrated broadband cable networks and television and sound transmission, from August 10 to 16. The agenda constitutes consideration of a single document for submission as a normal contribution; this is not the meeting for general preparation for the SG9 meeting, which is scheduled for September 28, 2005. Discussions will be conducted by email on the SGD list. Directions for access to the document being considered and the discussion list may be obtained from Julian Minard minardje@state.gov.

Dated: July 19, 2005.
Cecily Holiday,
Director, Radiocommunication Standardization, International Communications & Information Policy, Department of State.

[FR Doc. 05-14740 Filed 7-25-05; 8:45 am]

BILLING CODE 4710-07-P